DEPARTMENT OF HOMELAND SECURITY

Federal Emergency Management Agency

[Docket ID FEMA-2022-0002]

Changes in Flood Hazard Determinations

AGENCY: Federal Emergency Management Agency; Department of Homeland Security.

ACTION: Notice; correction.

SUMMARY: On June 1, 2022, FEMA published in the Federal Register a changes in flood hazard determination notice that contained an erroneous table. This notice provides corrections to that table to be used in lieu of the erroneous information. The table provided here represents the changes in flood hazard determinations and communities affected for the City of Margaret and Unincorporated Areas of St. Clair County, Alabama.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION:

Correction

In the Federal Register of June 1, 2022, in FR Doc. 2022-11679, in the table on page 33186, the entries for Alabama: St. Clair County are corrected to read as follows (after the signature):

Michael M. Grimm,
Assistant Administrator for Risk Management, Department of Homeland Security, Federal Emergency Management Agency.

State and county | Location and case No. | Chief executive officer of community | Community map repository | Date of modification | Community No.
Alabama:
St. Clair County (FEMA Docket No.: B-2136) | City of Margaret (20-04-4313P) | The Honorable Jeffery G. Wilson, Mayor, City of Margaret, P.O. Box 100, Margaret, AL 35953 | St. Clair County Flood Management Department, 165 5th Avenue, Suite 100, Ashville, AL 35953 | Aug. 20, 2021 | 010393
St. Clair County (FEMA Docket No.: B-2136) | Unincorporated areas of St. Clair County (20-04-4313P) | The Honorable Paul Manning, Chairman, St. Clair County Commission, 165 5th Avenue, Suite 100, Ashville, AL 35953 | St. Clair County Flood Management Department, 165 5th Avenue, Suite 100, Ashville, AL 35953 | Aug. 20, 2021 | 010290

[FR Doc. 2022-14271 Filed 7-5-22; 8:45 am]

BILLING CODE 9110-12-P